CHEMICAL SAFETY AND HAZARD INVESTIGATION BOARD

Sunshine Act Meeting

TIME AND DATE: October 29, 2020, 11:00 a.m. EDT.

PLACE: Conference Call.

STATUS: Open to the public.

MATTERS TO BE CONSIDERED: The Chemical Safety and Hazard Investigation Board (CSB) will convene a public meeting on Thursday, October 29, 2020 at 11:00 a.m. EDT. The Board will discuss a summary and status update of safety recommendations and CSB investigations. The meeting will be available via conference call.

Additional Information

This meeting will only be available via the dial in number below.

If you require a translator or interpreter, please notify the individual listed below as the “Contact Person for Further Information,” at least three business days prior to the meeting.

Audience members should use the following dial-in number and Pin to join the conference:

(toll free) 877-830-2586 or (toll) 785-424-1734

Conference ID: SAFETY

The CSB is an independent federal agency charged with investigating incidents and hazards that result, or may result, in the catastrophic release of extremely hazardous substances. CSB Board Members are appointed by the President and confirmed by the Senate. CSB investigations look into all aspects of chemical accidents and hazards, including physical causes such as equipment failure as well as inadequacies in regulations, industry standards, and safety management systems.

Public Comment

The time provided for public statements will depend upon the number of people who wish to speak. Speakers should assume that their presentations will be limited to three minutes or less, but commenters may submit written statements for the record.

Contact Person for Further Information

Hillary Cohen, Communications Manager, at public@csb.gov or (202) 446-8094. Further information about this public meeting can be found on the CSB website at: www.csb.gov.

Dated: October 21, 2020.
Ray Porfiri,
Deputy General Counsel, Chemical Safety and Hazard Investigation Board.

[FR Doc. 2020-23701 Filed 10-22-20; 4:15 pm]

BILLING CODE 6350-01-P